SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and 806.22(f) for the time period specified above:

Approvals By Rule Issued Under 18 CFR 806.22(e):

1. Mount Nittany Medical Center, ABR-201704001, College Township, Centre County, Pa.; Consumptive Use of Up to 0.0750 mgd; Approval Date: April 10, 2017.

Approvals By Rule Issued Under 18 CFR 806.22(f):

1. Chief Oil & Gas, LLC, Pad ID: Romisoukas Drilling Pad, ABR-201209021.R1, Canton Township, Bradford County, Pa.; Consumptive Use of Up to 2.0000 mgd; Approval Date: April 3, 2017.

2. Chief Oil & Gas, LLC, Pad ID: T. Brown Drilling Pad, ABR-201210006.R1, Lemon Township, Wyoming County, Pa.; Consumptive Use of Up to 2.0000 mgd; Approval Date: April 12, 2017.

3. SWN Production Company, LLC, Pad ID: Coyle Well Pad, ABR-201205006.R1, Liberty Township, Susquehanna County, Pa.; Consumptive Use of Up to 4.0000 mgd; Approval Date: April 12, 2017.

4. SWN Production Company, LLC, Pad ID: Moore Well Pad, ABR-201205021.R1, Silver Lake Township, Susquehanna County, Pa.; Consumptive Use of Up to 4.0000 mgd; Approval Date: April 12, 2017.

5. SWN Production Company, LLC, Pad ID: Wheeler Well Pad, ABR-201205022.R1, Silver Lake Township, Susquehanna County, Pa.; Consumptive Use of Up to 4.0000 mgd; Approval Date: April 12, 2017.

6. SWN Production Company, LLC, Pad ID: O'Reilly Well Pad, ABR-201205023.R1, Forest Lake Township, Susquehanna County, Pa.; Consumptive Use of Up to 4.0000 mgd; Approval Date: April 12, 2017.

7. SWN Production Company, LLC, Pad ID: Humbert Pad (RU-8), ABR-201206003.R1, New Milford Township, Susquehanna County, Pa.; Consumptive Use of Up to 4.9990 mgd; Approval Date: April 12, 2017.

8. SWN Production Company, LLC, Pad ID: KOZIAL PAD, ABR-201206016.R1, New Milford Township, Susquehanna County, Pa.; Consumptive Use of Up to 4.9990 mgd; Approval Date: April 12, 2017.

9. SWN Production Company, LLC, Pad ID: Marcucci_Jones Pad, ABR-201205017.R1, Stevens Township, Bradford County, Pa.; Consumptive Use of Up to 4.9990 mgd; Approval Date: April 17, 2017.

10. Chief Oil & Gas, LLC, Pad ID: Teeter Drilling Pad, ABR-201210013.R1, Smithfield Township, Bradford County, Pa.; Consumptive Use of Up to 2.0000 mgd; Approval Date: April 17, 2017.

11. Energy Corporation of America, Pad ID: COP 324 A, ABR-201208011.R1, Girard Township, Clearfield County, Pa.; Consumptive Use of Up to 5.0000 mgd; Approval Date: April 24, 2017.

12. Chief Oil & Gas, LLC, Pad ID: Tague West Drilling Pad, ABR-201210012.R1, Lemon Township, Wyoming County, Pa.; Consumptive Use of Up to 2.0000 mgd; Approval Date: April 24, 2017.

13. Chief Oil & Gas, LLC, Pad ID: SGL 12 D DRILLING PAD, ABR-201704002, Leroy Township, Bradford County, Pa.; Consumptive Use of Up to 2.5000 mgd; Approval Date: April 26, 2017.

14. SWEPI, LP, Pad ID: Owlett 843R, ABR-201204007.R1, Middlebury Township, Tioga County, Pa.; Consumptive Use of Up to 4.0000 mgd; Approval Date: April 27, 2017.

15. SWEPI, LP, Pad ID: Hepler 235, ABR-201204008.R1, Sullivan Township, Tioga County, Pa.; Consumptive Use of Up to 4.0000 mgd; Approval Date: April 27, 2017.

16. Pennsylvania General Energy Company, LLC, Pad ID: COP Tract 293 Pad B, ABR-201206006.R1, Cummings Township, Lycoming County, Pa.; Consumptive Use of Up to 3.5000 mgd; Approval Date: April 28, 2017.

17. Pennsylvania General Energy Company, LLC, Pad ID: COP Tract 293 Pad C, ABR-201207010.R1, Cummings Township, Lycoming County, Pa.; Consumptive Use of Up to 3.5000 mgd; Approval Date: April 28, 2017.

Authority: Pub. L. 91-575, 84 Stat. 1509 et seq., 18 CFR parts 806, 807, and 808.

Dated: May 16, 2017.
Stephanie L. Richardson,
Secretary to the Commission.

[FR Doc. 2017-10289 Filed 5-19-17; 8:45 am]

BILLING CODE 7040-01-P